DEPARTMENT OF LABOR

Employee Benefits Security Administration

Proposed Extension of Information Collection; Comment Request Disclosures by Insurers to General Account Policyholders

ACTION: Notice.

SUMMARY: In accordance with the Paperwork Reduction Act of 1995 (PRA 95) (44 U.S.C. 3506(c)(2)(A)), the Department of Labor (the Department) conducts a preclearance consultation program to provide the general public and Federal agencies with an opportunity to comment on proposed and continuing collections of information. This program helps to ensure that the data the Department gathers can be provided in the desired format, that the reporting burden on the public (time and financial resources) is minimized, that the public understands the Department's collection instruments, and that the Department can accurately assess the impact of collection requirements on respondents.

By this notice, the Department is soliciting comments concerning the information collection provisions of the regulation pertaining to section 401(c) of the Employee Retirement Income Security Act of 1974, as amended (ERISA). The statute and the regulatory provisions codified at 29 CFR 2550.401c-1 require insurers that issue certain types of insurance policies to employee benefit plans to make specific one-time and annual disclosures to such plans if assets of the plan are held in the insurer's general account. A copy of the ICR may be obtained by contacting the office listed in the ADDRESSES section of this notice.

DATES: Written comments must be submitted to the office shown in the ADDRESSES section below on or before January 20, 2009.

ADDRESSES: Interested parties are invited to submit written comments regarding the information collection request and burden estimates to: G. Christopher Cosby, Office of Policy and Research, U.S. Department of Labor, Employee Benefits Security Administration, 200 Constitution Avenue, NW., Room N-5718, Washington, DC 20210. Telephone: (202) 693-8410; Fax: (202) 219-4745. These are not toll-free numbers. Comments may also be submitted electronically to the following Internet e-mail address: ebsa.opr@dol.gov.

SUPPLEMENTARY INFORMATION:

I. Background

Section 1460 of the Small Business Job Protection Act of 1996 (Pub. L. 104-188) amended ERISA by adding Section 401(c), which clarified the extent to which assets of an insurer's general account constitute assets of an employee benefit plan when that insurer has issued policies for the benefit of the plan and such policies are supported by assets of the general account. Section 401(c) established certain requirements and disclosures for insurance companies that offer and maintain policies for employee benefit plans where the plans' assets are held in the insurer's general account. Section 401(c) also required the Secretary to provide guidance on the statutory requirements; such guidance was issued as a final rulemaking on January 5, 2000 (65 CFR 614). The regulation includes information collection provisions pertaining to one-time and annual disclosure obligations of insurers. The information collection provisions in the final rulemaking were submitted for review by the Office of Management and Budget (OMB) in an information collection request (ICR) in connection with promulgation of the final rulemaking and were approved by OMB under OMB Control No. 1210-0114. The ICR approval is scheduled to expire on March 31, 2009.

II. Desired Focus of Comments

The Department is particularly interested in comments that:

• Evaluate whether the collections of information are necessary for the proper performance of the functions of the agency, including whether the information will have practical utility;

• Enhance the quality, utility, and clarity of the information to be collected; and

• Evaluate the accuracy of the agency's estimate of the burden of the collections of information, including the validity of the methodology and assumptions used;

• Minimize the burden of the collection of information on those who are to respond, including through the use of appropriate automated, electronic, mechanical, or other technological collection techniques or other forms of information technology, e.g., permitting electronic submission of responses.

III. Current Action

The Employee Benefits Security Administration (EBSA) is requesting an extension of the currently approved ICR for the Disclosures by Insurers to General Account Policyholders. EBSA is not proposing or implementing changes to the regulation or to the existing ICR. A summary of the ICR and the current burden estimates follows:

Type of Review: Extension of a currently approved collection of information.

Agency: Employee Benefits Security Administration, Department of Labor.

Title: Disclosures by Insurers to General Account Policyholders.

OMB Number: 1210-0114.

Affected Public: Individuals or households; Business or other for-profit; Not-for-profit institutions.

Respondents: 104.

Frequency of Response: One-time; Annual.

Responses: 123,500.

Estimated Total Burden Hours: 466,667.

Estimated Total Burden Cost (Operating and Maintenance): 46,000.

Comments submitted in response to this notice will be summarized and/or included in the request for OMB approval of the information collection request. They will also become a matter of public record.

Dated: November 12, 2008.
Joseph S. Piacentini,
Director, Office of Policy and Research, Employee Benefits Security Administration.

[FR Doc. E8-27635 Filed 11-20-08; 8:45 am]

BILLING CODE 4510-29-P